DEPARTMENT OF ENERGY

Bonneville Power Administration

Rebuild of the Libby (FEC) to Troy Section of BPA's Libby to Bonners Ferry 115-Kilovolt Transmission Line Project

AGENCY: Bonneville Power Administration (BPA), Department of Energy (DOE).

ACTION: Notice of availability of Record of Decision (ROD).

SUMMARY: This notice announces the availability of the ROD to implement the Proposed Action with the Kootenai River Crossing realignment option that was identified in the Rebuild of the Libby (FEC) to Troy Section of BPA's Libby to Bonners Ferry 115-kilovolt Transmission Line Project Final Environmental Impact Statement (DOE/EIS-0379, May 2008). BPA has decided to rebuild the 17-mile-long Libby-Troy section of the existing transmission line in Lincoln County, Montana at the same voltage (115 kilovolt (kV)) with the same number of circuits (one). BPA will rebuild this section of line using a combination of wood and steel H-frame and single pole structures. BPA will also acquire additional transmission line corridor width through new easements or permitted areas in some sections to bring the corridor up to BPA's minimum width standards for 115-kV transmission line operation. Helicopters will be used for constructing the rebuilt line, except in the Big Horn Terrace and Pipe Creek residential areas, where all construction will occur from the ground. The Kootenai River Crossing realignment option will move the Kootenai River line crossing about 0.75 mile east of the existing crossing and require acquisition of new easements and permitted areas. All mitigation measures identified in the EIS are adopted.

ADDRESSES: Copies of the ROD and EIS may be obtained by calling BPA's toll-free document request line, 1-800-622-4520. The ROD and EIS Summary are also available on our Web site, http://www.efw.bpa.gov.

FOR FURTHER INFORMATION CONTACT: Tish Eaton, Bonneville Power Administration—KEC-4, P.O. Box 3621, Portland, Oregon 97208-3621; toll-free telephone number 1-800-622-4519; fax number 503-230-5699; or e-mail tkeaton@bpa.gov.

Issued in Portland, Oregon, on July 25, 2008.
Stephen J. Wright,
Administrator and Chief Executive Officer.

[FR Doc. E8-17726 Filed 7-31-08; 8:45 am]

BILLING CODE 6450-01-P